DEPARTMENT OF HEALTH AND HUMAN SERVICES

Centers for Medicare & Medicaid Services

[Document Identifier: CMS-10209, CMS-R-282, CMS-10197, and CMS-R-240]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Chronic Care Improvement Program (CCIP) and Medicare Advantage Quality Improvement Project (QIP); Use: 42 CFR 422.152 requires each Medicare Advantage Organization (MAOs) (other than Medicare Advantage (MA) private fee for service and Medical Savings Account (MSA) plans) that offers one or more MA plan to have an ongoing quality assessment and performance improvement program. Information collected in the QIP and CCIP Reporting Templates will be an integral resource for oversight, monitoring compliance and auditing activities necessary to ensure high quality provision of general health services and chronic care services to Medicare beneficiaries. Form Number: CMS-10209 (OMB#: 0938-New); Frequency: Recordkeeping, and Reporting—Annually; Affected Public: Business or other for-profits and Not-for-profit institutions; Number of Respondents: 426; Total Annual Responses: 852; Total Annual Hours: 38,050.

2. Type of Information Collection Request: Extension of a currently approved collection; Title of Information Collection: Medicare Health Plan Appeals and Grievance Data Collection and Reporting Requirements, Data Disclosure Requirements § 422.111; Use: Medicare Advantage (MA) organizations and demonstrations are required to disclose information pertaining to the number of disputes, and their disposition in the aggregate. Organizations provide appeals and grievance information to individuals eligible to elect an MA organization, or persons or entities making the request on behalf of the individuals who request this information. MA eligible individuals will use this information to help them make informed decisions about their organization's performance in the area of appeals and grievances. Form Number: CMS-R-0282 (OMB#: 0938-0778); Frequency: Recordkeeping, Third Party Disclosure and Reporting—Semi-annually; Affected Public: Business or other for-profits and Not-for-profit institutions; Number of Respondents: 434; Total Annual Responses: 868; Total Annual Hours: 876.

3. Type of Information Collection Request: New collection; Title of Information Collection: Evaluation of the Medicare National Competitive Bidding Program for DME; Use: Section 302(b) of The Medicare Prescription Drug, Improvement, and Modernization Act of 2003 (MMA) requires the Centers for Medicare and Medicaid Services (CMS) to begin a program of competitive bidding for durable medical equipment (DME), supplies, certain orthotics, and enteral nutrients and related equipment and supplies. Section 303(d) of the MMA requires a Report to Congress on the program, covering program savings, reductions in cost sharing, impacts on access to and quality of affected goods and services, and beneficiary satisfaction. This project's purpose is to provide information for this Report to Congress. Form Number: CMS-10197 (OMB#: 0938-New); Frequency: Reporting—Other: Baseline and Follow-up; Affected Public: Individuals or Households, Business or other for-profit, Federal Government and Not-for-profit institutions; Number of Respondents: 12,671; Total Annual Responses: 12,671; Total Annual Hours: 6,557.

4. Type of Information Collection Request: Revision of a currently approved collection; Title of Information Collection: Provider-based Status Regulations in 42 CFR 413.24 and 413.65; Use: Section 1833(t) of the Social Security Act (of the Act), as amended by section 4523 of the Balanced Budget Act of 1997 (the BBA) requires the Secretary to establish a prospective payment system (PPS) for hospital outpatient services. Successful implementation of an outpatient PPS requires that CMS distinguish facilities or organizations that function as departments of hospitals from those that are freestanding, so that CMS can determine which services should be paid under the PPS. Regulations found at 42 CFR 413.65(b)( 3) and (c) require the submission of the information CMS needs to make the determination of whether an organization functions as a department of a hospital or functions as a freestanding facility. In addition, section 1866(b)(2) of the Act authorizes hospitals and other providers to impose deductible and coinsurance charges for facility services, but does not allow such charges by facilities or organizations which are not provider-based. Implementation of this provision requires that CMS have information from the required reports, so it can determine which facilities are provider-based. Form Number: CMS-R-240 (OMB#: 0938-0798); Frequency: Recordkeeping—On occasion; Affected Public: Business or other for-profit, Not-for-profit institutions; Number of Respondents: 750; Total Annual Responses: 872; Total Annual Hours: 26,063.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: November 30, 2006.
Michelle Shortt,
Director, Regulations Development Group, Office of Strategic Operations and Regulatory Affairs.

[FR Doc. E6-20679 Filed 12-7-06; 8:45 am]

BILLING CODE 4120-01-P